DEPARTMENT OF THE INTERIOR

Fish and Wildlife Service

50 CFR Part 17

[4500030115]

Endangered and Threatened Wildlife and Plants; 90-Day Findings for Four Species

AGENCY: Fish and Wildlife Service, Interior.

ACTION: Notice of petition findings and initiation of a status review.

SUMMARY: We, the U.S. Fish and Wildlife Service (Service), announce 90-day findings on four petitions to add species to the List of Endangered and Threatened Wildlife under the Endangered Species Act of 1973, as amended (Act). Based on our review, we find that petitions to list the Arizona eryngo (Eryngium sparganophyllum) and giraffe (Giraffa camelopardalis) present substantial scientific or commercial information indicating that the petitioned actions may be warranted. Therefore, with the publication of this document, we announce that we plan to initiate reviews of the statuses of those species to determine if the petitioned actions are warranted. To ensure that the status reviews are comprehensive, we are requesting scientific and commercial data and other information regarding those species. Based on the status reviews, we will issue 12-month findings on the petitions, which will address whether or not the petitioned actions are warranted, in accordance with the Act. We also find that petitions to list the Refugio manzanita (Arctostaphylos refugioensis) and San Gabriel chestnut snail (Glyptostoma gabrielense) do not present substantial scientific or commercial information indicating that the petitioned actions may be warranted. Therefore, we are not initiating status reviews of these species in response to the petitions. We refer to these findings as “not substantial” petition findings.

DATES: These findings were made on April 26, 2019. As we commence work on the status reviews, we seek any new information concerning the statuses of, or threats to, the species or their habitats. Any information received during our work on the status reviews will be considered.

ADDRESSES:

Supporting documents: Summaries of the bases for the petition findings contained in this document are available on http://www.regulations.gov under the appropriate docket number (see table under SUPPLEMENTARY INFORMATION). In addition, this supporting information is available for public inspection, by appointment, during normal business hours by contacting the appropriate person, as specified in FOR FURTHER INFORMATION CONTACT.

Status Reviews: If you have new scientific or commercial data or other information concerning the statuses of, or threats to, the species for which a status review is being initiated, please provide those data or information by one of the following methods:

(1) Electronically: Go to the Federal eRulemaking Portal: http://www.regulations.gov. In the Search box, enter the appropriate docket number (see the Table 1 under SUPPLEMENTARY INFORMATION). Then, click on the “Search” button. After finding the correct document, you may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see the Table 1 under SUPPLEMENTARY INFORMATION], U.S. Fish and Wildlife Service, MS: BPHC, 5275 Leesburg Pike; Falls Church, VA 22041-3803.

We request that you send information only by the methods described above. We will post all information we receive on http://www.regulations.gov. This generally means that we will post any personal information you provide us.

Not-substantial petition findings: Summaries of the bases for the not-substantial petition findings contained in this document are available on http://www.regulations.gov under the appropriate docket number (see Table 2 under SUPPLEMENTARY INFORMATION). This supporting information is also available for public inspection, by appointment, during normal business hours, by contacting the appropriate person, as specified under FOR FURTHER INFORMATION CONTACT. If you have new information concerning the status of, or threats to, these species, or their habitats, please submit that information to the appropriate person.

FOR FURTHER INFORMATION CONTACT:

Species common name | Contact person
Arizona eryngo | Jeff Humphrey, 602-242-0210; jeff_humphrey@fws.gov.
giraffe | Don Morgan, 703-358-2444; don_morgan@fws.gov.
Refugio manzanita | Catherine Darst, 805-677-3318; cat_darst@fws.gov.
San Gabriel chestnut snail | Mendel Stewart, 760-431-9440; mendel_stewart@fws.gov.

If you use a telecommunications device for the deaf, please call the Federal Relay Service at 800-877-8339.

SUPPLEMENTARY INFORMATION:

Background

Section 4 of the Act (16 U.S.C. 1533) and its implementing regulations in title 50 of the Code of Federal Regulations (50 CFR part 424) set forth the procedures for adding a species to, or removing a species from, the Federal Lists of Endangered and Threatened Wildlife and Plants (Lists) in 50 CFR part 17. Section 4(b)(3)(A) of the Act requires that we make a finding on whether a petition to add a species to the Lists (i.e., “list” a species), remove a species from the Lists (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to “credible scientific or commercial information in support of the petition's claims such that a reasonable person conducting an impartial scientific review would conclude that the action proposed in the petition may be warranted” (50 CFR 424.14(h)(1)(i)).

A species may be determined to be an endangered species or a threatened species because of one or more of the five factors described in section 4(a)(1) of the Act (16 U.S.C. 1531 et seq.). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires us to promptly commence a review of the status of the species, and we will subsequently complete a status review in accordance with our prioritization methodology for 12-month findings (81 FR 49248; July 27, 2016).

Summaries of Petition Findings

The petition findings contained in this document are listed in the tables below, and the basis for each finding, along with supporting information, is available on http://www.regulations.gov under the appropriate docket number.

Table 1—Status Reviews
Common name | Docket No. | URL to Docket on http://www.regulations.gov
Arizona eryngo | FWS-R2-ES-2018-0087 | https://www.regulations.gov/docket?D=FWS-R2-ES-2018-0087.
giraffe | FWS-HQ-ES-2017-0101 | https://www.regulations.gov/docket?D=FWS-HQ-ES-2017-0101.

Table 2—Not-substantial Petition Findings
Common name | Docket No. | URL to Docket on http://www.regulations.gov
Refugio manzanita | FWS-R8-ES-2018-0088 | https://www.regulations.gov/docket?D=FWS-R8-ES-2018-0088.
San Gabriel chestnut snail | FWS-R8-ES-2018-0089 | https://www.regulations.gov/docket?D=FWS-R8-ES-2018-0089.

Evaluation of a Petition To List Arizona Eryngo as an Endangered or Threatened Species Under the Act

Species and Range

Eryngium sparganophyllum (Arizona eryngo); Arizona and Mexico.

Petition History

On April 9, 2018, we received a petition from the Center for Biological Diversity, requesting that the plant, Arizona eryngo, be listed as endangered or threatened and critical habitat be designated for this species under the Act. The petition clearly identified itself as such and included the requisite identification information for the petitioner, required at 50 CFR 424.14(c). This finding addresses the petition.

Finding

Based on our review of the petition and sources cited in the petition, we find that the petition presents substantial scientific or commercial information indicating the petitioned action may be warranted for the Arizona eryngo due to potential threats associated with the following: Groundwater pumping, spring modification, surface water diversion, trespass cattle grazing, and management activities that result in an encroachment of shrubs (Factor A); and climate change (Factor E). The petition also presented substantial information that the existing regulatory mechanisms may be inadequate to address impacts of these threats (Factor D).

The basis for our finding on this petition, and other information regarding our review of the petition, can be found as an appendix at http://www.regulations.gov under Docket No. FWS-R2-ES-2018-0087 under the Supporting Documents section.

Evaluation of a Petition To List the Giraffe as an Endangered or Threatened Species Under the Act

Species and Range

Giraffe (Giraffa camelopardalis): Africa (Angola, Botswana, Cameroon, Central African Republic, Chad, Democratic Republic of the Congo, Ethiopia, Kenya, Malawi, Mozambique, Namibia, Niger, Rwanda, Somalia, South Africa, South Sudan, Swaziland, Tanzania, Uganda, Zambia, and Zimbabwe).

Petition History

On April 19, 2017, we received a petition from the Center for Biological Diversity, Humane Society International, Humane Society of the United States, International Fund for Animal Welfare, and Natural Resources Defense Council, requesting that the giraffe be listed as an endangered or threatened species under the Act. The petition clearly identified itself as such and included the requisite identification information for the petitioner, required at 50 CFR 424.14(c). This finding addresses the petition.

Finding

Based on our review of the petition and sources cited in the petition, we find that the petition presents substantial scientific or commercial information indicating that the petitioned action may be warranted for the giraffe due to potential threats associated with the following: Development, agriculture, and resource harvesting (Factor A); commercial trade and recreational hunting and poaching (Factor B); disease (Factor C); and small population dynamics/genetic isolation (Factor E). The petition also presented substantial information that the existing regulatory mechanisms may be inadequate to address impacts of these threats (Factor D).

The basis for our finding on this petition, and other information regarding our review of the petition, can be found as an appendix at http://www.regulations.gov under Docket No. FWS-HQ-ES-2017-0101 under Supporting Documents.

Evaluation of a Petition To List Refugio Manzanita as an Endangered Species Under the Act

Species and Range

Arctostaphylos refugioensis (Refugio manzanita); Santa Barbara County, California.

Petition History

On November 30, 2017, we received a petition from Los Padres ForestWatch and the California Chaparral Institute, requesting the plant, Refugio manzanita, be listed as endangered and critical habitat be designated for this species under the Act. The petition clearly identified itself as such and included the requisite identification information for the petitioner, required at 50 CFR 424.14(c). This finding addresses the petition.

Finding

Based on our review of the petition and sources cited in the petition, we find that the petition does not present substantial scientific or commercial information indicating the petitioned action may be warranted for the Refugio manzanita. Because the petition does not present substantial information indicating that listing the Refugio manzanita may be warranted, we are not initiating a status review of this species in response to this petition. However, we ask that the public submit to us any new information that becomes available concerning the status of, or threats to, this species or its habitat at any time (see Not-substantial petition findings under ADDRESSES, above).

The basis for our finding on this petition, and other information regarding our review of the petition, can be found as an appendix at http://www.regulations.gov under Docket No. FWS-R8-ES-2018-0088 under the Supporting Documents section.

Evaluation of a Petition to List the San Gabriel Chestnut Snail as an Endangered or Threatened Species Under the Act

Species and Range

San Gabriel chestnut snail (Glyptostoma gabrielense); Los Angeles County, California.

Petition History

On November 13, 2017, we received a petition from the Center for Biological Diversity, requesting that the San Gabriel chestnut snail be listed as endangered or threatened and that critical habitat be designated for this species under the Act. The petition clearly identified itself as such and included the requisite identification information for the petitioner, required at 50 CFR 424.14(c). This finding addresses the petition.

Finding

Based on our review of the petition and sources cited in the petition, we find that the petition does not present substantial scientific or commercial information indicating the petitioned action may be warranted for the San Gabriel chestnut snail. Because the petition does not present substantial information indicating that listing the San Gabriel chestnut snail may be warranted, we are not initiating a status review of this species in response to this petition. However, we ask that the public submit to us any new information that becomes available concerning the status of, or threats to, this species or its habitat at any time (see Not-substantial petition findings under ADDRESSES, above).

The basis for our finding on this petition, and other information regarding our review of this petition, can be found as an appendix at http://www.regulations.gov under Docket No. FWS-R8-ES-2018-0089 under the Supporting Documents section.

Conclusion

On the basis of our evaluation of the information presented in the petitions under section 4(b)(3)(A) of the Act, we have determined that the petitions summarized above for the Arizona eryngo and giraffe present substantial scientific or commercial information indicating that the petitioned actions may be warranted. We are, therefore, initiating status reviews to determine whether the actions are warranted under the Act. At the conclusion of the status reviews, we will issue findings, in accordance with section 4(b)(3)(B) of the Act, as to whether the petitioned actions are not warranted, warranted, or warranted but precluded by pending proposals to determine whether any species is an endangered species or a threatened species.

In addition, we have determined that the petitions summarized above for Refugio manzanita and San Gabriel chestnut snail do not present substantial scientific or commercial information indicating that the requested actions may be warranted. Therefore, we are not initiating status reviews for these species.

Authors

The primary authors of this document are staff members of the Ecological Services Program, U.S. Fish and Wildlife Service.

Authority

The authority for these actions is the Endangered Species Act of 1973, as amended (16 U.S.C. 1531 et seq.).

Dated: April 15, 2019.
Margaret E. Everson,
Principal Deputy Director, U.S. Fish and Wildlife Service, Exercising the Authority of the Director, U.S. Fish and Wildlife Service.

[FR Doc. 2019-08449 Filed 4-25-19; 8:45 am]

BILLING CODE 4333-15-P